DEPARTMENT OF COMMERCE

Foreign-Trade Zones Board

[Order No. 1941]

Expansion of Subzone 107A, Winnebago Industries, Inc., Lake Mills, Iowa

Pursuant to its authority under the Foreign-Trade Zones Act of June 18, 1934, as amended (19 U.S.C. 81a-81u), the Foreign-Trade Zones Board (the Board) adopts the following Order:

Whereas, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones for specific uses;

Whereas, the Iowa Foreign Trade Zone Corporation, grantee of Foreign-Trade Zone 107, has made application to the Board to expand Subzone 107A on behalf of Winnebago Industries, Inc. to include a site in Lake Mills, Iowa (FTZ Docket B-28-2014, docketed 3-24-2014);

Whereas, notice inviting public comment has been given in the Federal Register (79 FR 17500-17501, 3-28-2014) and the application has been processed pursuant to the FTZ Act and the Board's regulations; and,

Whereas, the Board adopts the findings and recommendations of the examiner's memorandum, and finds that the requirements of the FTZ Act and the Board's regulations are satisfied;

Now, therefore, the Board hereby approves the expansion of Subzone 107A on behalf of Winnebago Industries, Inc., as described in the application and Federal Register notice, subject to the FTZ Act and the Board's regulations, including Section 400.13.

Signed at Washington, DC, this 30th day of June 2014.
Paul Piquado,
Assistant Secretary of Commerce, for Enforcement and Compliance, Alternate Chairman, Foreign-Trade Zones Board.

[FR Doc. 2014-15947 Filed 7-7-14; 8:45 am]

BILLING CODE 3510-DS-P